DEPARTMENT OF TRANSPORTATION

Research and Special Programs Administration

49 CFR Part 107

[Docket No. RSPA-00-8439 (HM-208D)]

RIN 2137-AD53

Hazardous Materials: Temporary Reduction of Registration Fees

AGENCY: Research and Special Programs Administration (RSPA), DOT.

ACTION: Notice of proposed rulemaking; status.

SUMMARY: RSPA is issuing this document to inform persons of the status of a Notice of Proposed Rulemaking (NPRM) which it published in the Federal Register on December 7, 2000, proposing to: temporarily lower the registration fees paid by persons who transport or offer for transportation in commerce certain categories and quantities of hazardous materials; charge not-for-profit organizations the same registration fee as a small business; and use the North American Industry Classification System for size criteria for determining if an entity is a small business. Consistent with the President's fiscal year 2002 budget request to Congress, RSPA is delaying final action on these proposals pending enactment of the Fiscal Year 2002 Department of Transportation appropriations. Therefore, under the existing regulations, for registration year 2001-2002, which begins July 1, 2001, the registration fees remain $300 (including a $25 processing fee) for small businesses and $2,000 (including a $25 processing fee) for all other businesses.

FOR FURTHER INFORMATION CONTACT: Mr. David Donaldson, Office of Hazardous Materials Planning and Analysis, (202) 366-4484, or Ms. Deborah Boothe, Office of Hazardous Materials Standards, (202) 366-8553, Research and Special Programs Administration, U.S. Department of Transportation, 400 Seventh Street, SW, Washington, DC 20590.

SUPPLEMENTARY INFORMATION: On December 7, 2000 (65 FR 76889), RSPA issued an NPRM proposing to temporarily lower the registration fee for all registrants for the next six registration years (2001-2002 through 2006-2007) in order to eliminate an unexpended balance (or surplus) in the Hazardous Materials Emergency Preparedness (HMEP) grants fund. The HMEP grants program supports hazardous material emergency response planning and training activities by States, local governments, and Indian tribes and related activities. RSPA also proposed to amend its reference to the Small Business Administration (SBA) small business criteria to reflect SBA's recent replacement of the Standard Industrial Classification (SIC) code system with the North American Industry Classification System. In addition, RSPA proposed to allow payment by additional credit cards than previously authorized.

On April 9, 2001 the President submitted his fiscal year 2002 budget request to Congress. In that budget request, the President proposes to fund a portion of RSPA's hazardous materials safety program budget from fees collected through the Hazardous Materials Registration program. Consistent with the President's budget request to Congress, RSPA is delaying final action on all proposals contained in this rulemaking pending enactment of the Fiscal Year 2002 Department of Transportation appropriations.

Therefore, under the existing regulations, for registration year 2001-2002, which begins July 1, 2001, the registration fees remain unchanged at $300 (including a $25 processing fee) for small businesses and $2,000 (including a $25 processing fee) for all other businesses. RSPA is also delaying action on all other proposals contained in the December 7, 2000 NPRM. RSPA received 19 comments to the NPRM. These comments will be considered in any future rulemaking action published under this docket. A copy of the 2001-2002 registration form can be obtained after May 1, 2001, from our web site at http://hazmat.dot.gov/register.htm and from our fax-on-demand service at 1-800-467-4922 (extension 2; document 700) .

Issued in Washington, DC, on April 27, 2001.
Robert A. McGuire,
Associate Administrator for Hazardous Materials Safety.

[FR Doc. 01-10953 Filed 5-1-01; 8:45 am]

BILLING CODE 4910-60-P